DEPARTMENT OF LABOR

Employment and Training Administration

[TA-W-59,355]

Quebecor World Including On-Site Leased Workers From Westaff, DC Staffing Services and Driver Leasing Midwest, Inc., Brookfield, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 30, 2006, applicable to workers of Quebecor World, including leased on-site workers of Westaff and DC Staffing Services, Brookfield, Wisconsin. The notice was published in the Federal Register on June 22, 2006 (71 FR 35949).

At the request of the petitioner and the State agency, the Department reviewed the certification for workers of the subject firm. The workers were engaged in the production (printing) of magazines and catalogs.

New information shows that leased workers of Driver Leasing Midwest, Inc. were employed on-site at the Brookfield, Wisconsin location of Quebecor World. The Department has determined that these workers were sufficiently under the control of the subject firm to be considered leased workers.

Based on these findings, the Department is amending this certification to include leased workers of Driver Leasing Midwest, Inc. working on-site at the Brookfield, Wisconsin location of the subject firm.

The intent of the Department's certification is to include all workers employed at Quebecor World, Brookfield, Wisconsin who were adversely affected by a shift in production of (print) magazines and catalogs to Canada.

The amended notice applicable to TA-W-59,355 is hereby issued as follows:

All workers of Quebecor World, including on-site leased workers of Westaff, DC Staffing Services and Driver Leasing Midwest, Inc., Brookfield, Wisconsin, who became totally or partially separated from employment on or after May 8, 2005, through May 30, 2008, are eligible to apply for adjustment assistance under Section 223 of the Trade Act of 1974, and are also eligible to apply for alternative trade adjustment assistance under Section 246 of the Trade Act of 1974.

Signed at Washington, DC, this 2nd day of April 2008.
Richard Church,
Certifying Officer, Division of Trade Adjustment Assistance.

[FR Doc. E8-7732 Filed 4-10-08; 8:45 am]

BILLING CODE 4510-FN-P